DEPARTMENT OF THE INTERIOR

National Indian Gaming Commission

25 CFR Part 547

Technical Standards for Electronic, Computer, or Other Technologic Aids Used in the Play of Class II Games; Withdrawal

AGENCY: National Indian Gaming Commission, Interior.

ACTION: Notice of withdrawal of proposed rule.

SUMMARY: This is to notify the public that the National Indian Gaming Commission is withdrawing the proposed rule published in the Federal Register on August 11, 2006. (71 FR 46335.)

FOR FURTHER INFORMATION CONTACT: Michael Gross at 202/632-7003; fax 202/632-7066 (these are not toll-free numbers).

SUPPLEMENTARY INFORMATION: Congress established the National Indian Gaming Commission (Commission) under the Indian Gaming Regulatory Act of 1988, 25 U.S.C. 2701 et seq., to regulate gaming on Indian lands. On August 11, 2006, the Commission published a proposed rule, “Technical Standards for Electronic, Computer, or other Technologic Aids Used in the Play of Class II Games.” (71 FR 46335). After receiving extensive comment, and after many consultations with tribal governments and tribal regulators, the Commission anticipates significant revisions to any proposed rule. As such, the Commission has decided to withdraw the current proposed rule and may publish a new proposed rule at a later date.

Dated: February 9, 2007.
Philip N. Hogen,
Chairman, National Indian Gaming Commission.

[FR Doc. E7-2623 Filed 2-14-07; 8:45 am]

BILLING CODE 7565-01-P